DEPARTMENT OF DEFENSE

Defense Acquisition Regulations System

[Docket Number DARS-2024-0022; OMB Control Number 0704-0187]

Information Collection Requirement; Defense Federal Acquisition Regulation Supplement; Information Collection in Support of the DoD Acquisition Process (Various Miscellaneous Requirements)

AGENCY: Defense Acquisition Regulations System; Department of Defense (DoD).

ACTION: Notice and request for comments regarding a proposed revision and extension of an approved information collection requirement.

SUMMARY: In compliance with the Paperwork Reduction Act of 1995, DoD announces the proposed extension of a public information collection requirement and seeks public comment on the provisions thereof. DoD invites comments on: whether the proposed collection of information is necessary for the proper performance of the functions of DoD, including whether the information will have practical utility; the accuracy of DoD's estimate of the burden of the proposed information collection; ways to enhance the quality, utility, and clarity of the information to be collected; and ways to minimize the burden of the information collection on respondents, including through the use of automated collection techniques or other forms of information technology. The Office of Management and Budget (OMB) has approved this information collection for use under Control Number 0704-0187 through October 31, 2024. DoD proposes that OMB approve an extension of the information collection requirement, to expire three years after the approval date.

DATES: DoD will consider all comments received by August 26, 2024.

ADDRESSES: You may submit comments, identified by OMB Control Number 0704-0187, using either of the following methods:

○ Federal eRulemaking Portal: https://www.regulations.gov. Follow the instructions for submitting comments.

○ Email: osd.dfars@mail.mil. Include OMB Control Number 0704-0187 in the subject line of the message.

Comments received generally will be posted without change to https://www.regulations.gov, including any personal information provided.

FOR FURTHER INFORMATION CONTACT: Mr. Jon Snyder, at 703-945-5341.

SUPPLEMENTARY INFORMATION:

Title and OMB Number: Information Collection in Support of the DoD Acquisition Process (Various Miscellaneous Requirements); OMB Control Number 0704-0187.

Affected Public: Businesses or other for-profit and not-for-profit institutions.

Respondent's Obligation: Required to obtain or retain benefits.

Frequency: On occasion.

Number of Respondents: 75.

Responses per Respondent: 2.8, approximately.

Annual Responses: 207.

Average Burden per Response: 1.2 hours, approximately.

Annual Burden Hours: 242.

Needs and Uses: This information collection requirement pertains to information required in DFARS parts 208, 235, and associated contract clauses in part 252 that offerors and contractors must submit to DoD in response to a request for proposals or an invitation for bids or a contract requirement. The solicitation provision and contract clause associated with DFARS part 209 have been removed from this information collection. The information required by the provision and clause is collected via the System for Award Management, for which the burden is approved under OMB Control Number 9000-0189.

DoD uses the information collected in the clauses associated with DFARS parts 208 and 235 to—

• Determine whether to provide precious metals as Government-furnished material;

• Evaluate claims of indemnification for losses or damages occurring under a research and development contract; and

• Keep track of radio frequencies on electronic equipment under research and development contracts so that the user does not override or interfere with the use of that frequency by another user.

Jennifer D. Johnson,
Editor/Publisher, Defense Acquisition Regulations System.

[FR Doc. 2024-14014 Filed 6-26-24; 8:45 am]

BILLING CODE 6001-FR-P